MEDICARE PAYMENT ADVISORY COMMISSION

Commission Meeting

AGENCY: Medicare Payment Advisory Commission.

ACTION: Notice of meeting.

SUMMARY: The Commission will hold its next public meeting on Thursday, September 12, 2002, and Friday, September 13, 2002, at the Ronald Reagan Building, International Trade Center, 1300 Pennsylvania Avenue, NW., Washington, DC. The meeting is tentatively scheduled to begin at 10 a.m. on September, and at 9 a.m. on September 13.

Topics for discussion include: assessing payment adequacy; streamlining cost reports; monitoring beneficiaries' access to care; survey of physicians about Medicare; Medicare payment for physician services compared to private payers; competitive bidding for durable medical equipment; social HMO (SHMO) demonstration project; SNF services in Medicare+Choice; payment for new technology; 2003 hospital outpatient PPS proposed rule; and Medicare payment for prescription drugs under part B.

Agendas will be mailed on Thursday, September 5, 2002. The final agenda will be available on the Commission's Web site (www.MedPAC.gov).

ADDRESSES: MedPAC's address is: 601 New Jersey, NW., Suite 9000, Washington, DC 20001. The telephone number is (202) 220-3700.

FOR FURTHER INFORMATION CONTACT: Diane Ellison, Office Manager, (202) 220-3700.

Lu Zawistowich,
Acting Executive Director.

[FR Doc. 02-22161 Filed 8-27-02; 8:45 am]

BILLING CODE 6820-BW-M